DEPARTMENT OF COMMERCE

International Trade Administration

[A-484-803]

Large Diameter Welded Pipe From Greece: Preliminary Results of Antidumping Duty Changed Circumstances Review

AGENCY: Enforcement and Compliance, International Trade Administration, Department of Commerce.

SUMMARY: The Department of Commerce (Commerce) is issuing the preliminary results of the changed circumstances review (CCR) of the antidumping duty (AD) order on large diameter welded pipe from Greece.

DATES: Applicable May 6, 2020.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On February 21, 2020, in response to a request by Corinth Pipeworks Pipe Industry S.A. (Corinth), a Greek producer of large diameter welded pipe (welded pipe), Commerce published a notice of initiation of a changed circumstances review to partially revoke the antidumping duty order on welded pipe from Greece.¹ The specific types of large diameter welded pipe which are under consideration for partial revocation are described in the Attachment to this notice. In the Initiation Notice, we requested comments from interested parties.² In March 2020, we received comments from Corinth ³ and the domestic producers,⁴ and rebuttal comments from Corinth.⁵ On April 9, 2020, we spoke with the domestic producers regarding both this CCR and the CCRs of welded pipe from India.⁶

¹ See Large Diameter Welded Pipe from Greece: Initiation of Antidumping Duty Changed Circumstances Review, 85 FR 10150 (February 21, 2020) (Initiation Notice).

² See Initiation Notice, 85 FR at 10151.

³ See Corinth's Letter, “Changed Circumstances Review of Large Diameter Welded Pipe from Greece—Corinth Pipeworks' Comments and New Factual Information for Changed Circumstances Review,” dated March 6, 2020 (Corinth's Comments); and Domestic Producers' Letter, “Large Diameter Welded Pipe from Greece: Comments on Initiation of Changed Circumstances Review,” dated March 6, 2020 (refiled with amended bracketing on March 13, 2020) (Domestic Producers' Comments).

⁴ The domestic producers are American Cast Iron Pipe Company; Berg Steel Pipe Corp./Berg Spiral Pipe Corp.; Dura-Bond Industries; Stupp Corporation; (individually and as members of the American Line Pipe Producers Association); Greens Bayou Pipe Mill, LP; JSW Steel (USA) Inc.; Skyline Steel; and Trinity Products LLC (collectively the petitioners in the less-than-fair-value investigation) and Welspun Global Trade LLC.

⁵ See Corinth's Letter, “Changed Circumstances Review of Large Diameter Welded Pipe from Greece—Corinth Pipeworks' Rebuttal Comments,” dated March 20, 2020 (Corinth's Rebuttal Comments).

⁶ See Memorandum, “AD Order on Large Diameter Welded Pipe from Greece; AD and CVD Orders on Large Diameter Welded Pipe from India—Ex Parte Memorandum,” dated April 14, 2020.

Scope of the Order

The merchandise covered by this order is welded carbon and alloy steel line pipe (other than stainless steel pipe), more than 406.4 mm (16 inches) in nominal outside diameter (large diameter welded line pipe), regardless of wall thickness, length, surface finish, grade, end finish, or stenciling. Large diameter welded pipe may be used to transport oil, gas, slurry, steam, or other fluids, liquids, or gases.

Large diameter welded line pipe is used to transport oil, gas, or natural gas liquids and is normally produced to the American Petroleum Institute (API) specification 5L. Large diameter welded line pipe can be produced to comparable foreign specifications, grades and/or standards or to proprietary specifications, grades and/or standards, or can be non-graded material. All line pipe meeting the physical description set forth above, including any dual- or multiple-certified/stenciled pipe with an API (or comparable) welded line pipe certification/stencil, is covered by the scope of the orders.

Subject merchandise also includes large diameter welded line pipe that has been further processed in a third country, including but not limited to coating, painting, notching, beveling, cutting, punching, welding, or any other processing that would not otherwise remove the merchandise from the scope of the order if performed in the country of manufacture of the in-scope large diameter welded line pipe.

Excluded from the scope of the order is structural pipe, which is produced only to American Society for Testing and Materials (ASTM) standards A500, A252, or A53, or other relevant domestic specifications, or comparable foreign specifications, grades and/or standards or to proprietary specifications, grades and/or standards. Also excluded is large diameter welded pipe produced only to specifications of the American Water Works Association (AWWA) for water and sewage pipe.

The large diameter welded line pipe that is subject to the order is currently classifiable in the Harmonized Tariff Schedule of the United States (HTSUS) under subheadings 7305.11.1030, 7305.11.1060, 7305.11.5000, 7305.12.1030, 7305.12.1060, 7305.12.5000, 7305.19.1030, 7305.19.1060, and 7305.19.5000. Merchandise currently classifiable under subheadings 7305.31.4000, 7305.31.6090, 7305.39.1000 and 7305.39.5000 and that otherwise meets the above scope language is also covered. While the HTSUS subheadings are provided for convenience and customs purposes, the written description of the scope of the order is dispositive.

Preliminary Results of Changed Circumstances Review

In this changed circumstances review, pursuant to section 751(b) of the Tariff Act of 1930, as amended (the Act), Commerce is considering the partial revocation of the order on welded pipe from Greece. The Greek welded pipe producer Corinth requested a changed circumstances review following the initiation and preliminary partial revocation of the antidumping and countervailing (CVD) duty orders on large diameter welded pipe from India.⁷ In its request, Corinth included the public version of the domestic producers' request to initiate the Indian CCRs. In the Indian CCR requests, the ten domestic producers filing the request assert that they account for “substantially all” ⁸ of the domestic production of large diameter welded pipe.⁹ In the Initiation Notice for the Greek CCR, we requested comments related to the applicability of the “no interest” statement in the Indian CCR request to the Greek CCR. In response, we received a submission from the domestic producers in which they stated the following: “{the domestic producers} confirm the comments made in the CCR of the antidumping and countervailing duty orders of LDWP from India.” ¹⁰

⁷ See Corinth's Letter, “Large Diameter Welded Pipe from Greece: Request for Changed Circumstances Review and Revocation, In Part,” dated January 3, 2020 (Corinth CCR Request); and Large Diameter Welded Pipe from India: Initiation and Expedited Preliminary Results of Antidumping Duty and Countervailing Duty Changed Circumstances Reviews, 84 FR 69356 (December 18, 2019) (Indian CCR Initiation and Prelim).

⁸ Commerce has interpreted “substantially all” to mean at least 85 percent of the total production of the domestic like product covered by the order. See, e.g., Supercalendered Paper from Canada: Final Results of Changed Circumstances Review and Revocation of Countervailing Duty Order, 83 FR 32268 (July 12, 2018).

⁹ See Corinth CCR Request, at Exhibit 2 and Indian CCR Initiation and Prelim, 84 FR at 69357.

¹⁰ See Domestic Producers' Comments, at 2.

We find that: (1) The ten domestic producers' statement of no interest in the AD and CVD orders with respect to certain specific large diameter welded pipe products from India; (2) the domestic producers' statement that they do not currently produce the particular large diameter welded pipe products subject to this CCR request; ¹¹ (3) the domestic producers' statement that the investment needed for the industry to produce these products far exceeds the potential benefit of such an investment, given that the U.S. market for deep offshore projects, i.e., the primary market for the large diameter welded pipe product groups at issue is relatively small; ¹² and (4) the domestic industry's support for excluding the pipe products at issue from the Greek order, in the event that Commerce determines to treat all three orders equally, all support a preliminary finding to exclude the specified products from the AD order on large diameter welded pipe from Greece.

¹¹ See Corinth CCR Request, at Exhibits 1 (at 84 FR 69357), 2 (at internal page numbers 4 and 8), and 4 (at internal page numbers 9-10).

¹² See Corinth CCR Request at 6 and Exhibits 2 (at internal page number 4) and Exhibit 4 (at internal page number 10).

In its comments on the initiation of this review, Corinth argued that: (1) The domestic industry has expressed a lack of interest in these products; (2) no party objected to the Section 232 exclusion requests for these same products; and (3) Corinth currently produces these varieties of welded pipe.¹³ In response, the domestic producers stated that, while the partial revocation of the Indian orders would convey a benefit to the domestic producers, it did not believe that a similar domestic benefit would be conferred by the exclusion of the same products from Greek order.¹⁴

¹³ See Corinth's Comments at 3-5 and Exhibits 2, 3, and 4.

¹⁴ See Domestic Producers' Comments at 2.

In its rebuttal comments, Corinth argues that “domestic benefit” is not a consideration in the law, regulation, or practice of CCRs.¹⁵ Corinth argues that the relevant factors are: (1) The domestic industry's statement of no interest in its request for CCRs of Indian welded pipe; (2) the fact that the domestic industry does not produce these varieties of welded pipe; (3) the fact that the domestic industry has no intention of producing these varieties of pipe, because the investment needed outweighs any economic benefits due to the small size of market for these types of welded pipe; and (4) ten domestic producers, who account for at least 85 percent of domestic production of welded pipe, supported the statement of no interest.¹⁶ Further, Corinth pointed out that in the Indian proceedings, the domestic producers inaccurately stated that only India, Brazil, and Germany produce the specified welded pipe in meaningful quantities.¹⁷

¹⁵ See Corinth's Rebuttal Comments at 2-3.

¹⁶ See Corinth's Rebuttal Comments at 3.

¹⁷ Id. at 4.

Corinth also argues that the domestic producers are incorrect in their assertion that an exclusion for any other country subject to the orders is unnecessary.¹⁸ The domestic producers did not rebut Corinth's comments.

¹⁸ Id. at 4-6.

While the direct statement of no interest from the domestic producers is from the Indian welded pipe CCRs, the domestic producers have stated that these varieties of welded pipe are not produced domestically and that there are no plans to undertake the investments needed to produce these varieties of welded pipe.¹⁹ Further, there is no evidence that harm is done to the domestic industry only by imports of Greek welded pipe and not by Indian welded pipe. Accordingly, we find that the domestic producers' statements are equally applicable to the CCRs for both countries, as the lack of domestic production or planned domestic production is true regardless of the foreign country of production.

¹⁹ See Corinth CCR Request, at 6 and Exhibits 1 (at 84 FR 69357), 2 (at internal page numbers 4 and 8), and 4 (at internal page numbers 9-10).

Therefore, in the absence of an objection by any other interested parties, and based upon the four factual factors listed above, we preliminarily find excluding those products from the Greek and Indian Orders to be equally appropriate. Thus, we preliminarily determine that substantially all of the domestic producers of the like product have no interest in the continued application, in part, of the AD order on the same types of large diameter welded pipe from Greece. Accordingly, we are notifying the public of our intent to revoke, in part, the AD order as it relates to certain specific large diameter welded pipe products. We intend to change the scope of the AD order on large diameter welded pipe from Greece by adding the exclusion language provided in the Attachment to this notice.

Public Comment

Interested parties may submit case briefs not later than 14 days after the date of publication of this notice.²⁰ Rebuttal briefs, which must be limited to issues raised in case briefs, may be filed not later than seven days after the due date for case briefs.²¹ All submissions must be filed electronically using Enforcement and Compliance's AD and CVD Centralized Electronic Service System (ACCESS). ACCESS is available to registered users at http://access.trade.gov. An electronically filed document must be received successfully in its entirety in ACCESS by 5:00 p.m. Eastern Time on the due date set forth in this notice. Note that Commerce has temporarily modified certain of its requirements for serving documents containing business proprietary information, until May 19, 2020, unless extended.²²

²⁰ Commerce is exercising its discretion under 19 CFR 351.309(c)(1)(ii) to alter the time limit for filing of case briefs.

²¹ Commerce is exercising its discretion under 19 CFR 351.309(d)(1) to alter the time limit for filing of rebuttal briefs.

²² See Temporary Rule Modifying AD/CVD Service Requirements Due to COVID-19, 85 FR 17006 (March 26, 2020).

An interested party may request a hearing within 14 days of publication of this notice. Hearing requests should contain the following information: (1) The party's name, address, and telephone number; (2) the number of participants; and (3) a list of the issues to be discussed. Oral presentations at the hearing will be limited to issues raised in the briefs. If a request for a hearing is made, Commerce intends to hold the hearing at a date and time to be determined.²³ Parties should confirm the date, time, and location of the hearing two days before the scheduled date.

²³ See 19 CFR 351.310(d).

Unless extended, consistent with 19 CFR 351.216(e), we intend to issue the final results of these CCRs no later than 270 days after the date on which these reviews were initiated, or within 45 days of that date if all parties agree to the outcome of the reviews.

Notification to Interested Parties

This notice is published in accordance with sections 751(b)(1) and 777(i)(1) of the Act and 19 CFR 351.216 and 351.221(c)(3).

Dated: April 30, 2020.
Jeffrey I. Kessler,
Assistant Secretary for Enforcement and Compliance.

Attachment

Proposed Revision to the Scope of the Order

Excluded from the scope of the antidumping duty Order are large diameter welded pipe products in the following combinations of grades, outside diameters, and wall thicknesses:

• Grade X60, X65, or X70, 18″ outside diameter, 0.688″ or greater wall thickness;

• Grade X60, X65, or X70, 20″ outside diameter, 0.688″ or greater wall thickness;

• Grade X60, X65, X70, or X80, 22″ outside diameter, 0.750″ or greater wall thickness; and

• Grade X60, X65, or X70, 24″ outside diameter, 0.750″ or greater wall thickness.

[FR Doc. 2020-09677 Filed 5-5-20; 8:45 am]

BILLING CODE 3510-DS-P